DEPARTMENT OF THE INTERIOR

Fish and Wildlife Service

[FWS-R1-ES-2019-N025; FXES11130100000C4-190-FF01E00000]

Endangered and Threatened Wildlife and Plants; Initiation of 5-Year Status Reviews for 91 Species in Oregon, Washington, Hawaii, and American Samoa

AGENCY: Fish and Wildlife Service, Interior.

ACTION: Notice of initiation of reviews; request for information.

SUMMARY: We, the U.S. Fish and Wildlife Service (Service), are initiating 5-year status reviews for 91 species in Oregon, Washington, Hawaii, and American Samoa under the Endangered Species Act of 1973. Three of these species also occur outside U.S. jurisdiction in Canada and the South Pacific. A 5-year review is based on the best scientific and commercial data available at the time of the review; therefore, we are requesting submission of any new information on these species that has become available since the last review.

DATES: To ensure consideration in our reviews, we are requesting submission of new information no later than August 12, 2019. However, we will continue to accept new information about any species at any time.

ADDRESSES: Submit information on the streaked horned lark via U.S. mail to Field Supervisor, Attention: 5-Year Review, U.S. Fish and Wildlife Service, Oregon Fish and Wildlife Office, 2600 SE 98th Ave., Suite 100, Portland, OR 97266.

Submit information on the pocket gophers, Oregon spotted frog, Taylor's checkerspot butterfly, Umtanum Desert buckwheat, and White Bluffs bladderpod via U.S. mail to Field Supervisor, Attention: 5-Year Review, U.S. Fish and Wildlife Service, Washington Fish and Wildlife Office, 510 Desmond Dr. Southeast, Suite 102, Lacey, WA 98503.

Submit information on any of the 82 Pacific Islands species (occurring in Hawaii, American Samoa, Samoa, Fiji, Tonga, and Vanuatu) via U.S. mail to Field Supervisor, Attention: 5-Year Review, U.S. Fish and Wildlife Service, Pacific Islands Fish and Wildlife Office, 300 Ala Moana Blvd., Room 3-122, Honolulu, HI 96850; or by email to pifwo_admin@fws.gov.

FOR FURTHER INFORMATION CONTACT: For the streaked horned lark, contact Michele Zwartjes, U.S. Fish and Wildlife Service, Oregon Fish and Wildlife Office, at 503-231-6179.

For the pocket gophers, Oregon spotted frog, Taylor's checkerspot butterfly, Umtanum Desert buckwheat, and White Bluffs bladderpod, contact Tom McDowell, U.S. Fish and Wildlife Service, Washington Fish and Wildlife Office, at 360-753-9440.

For the 82 Pacific Islands species, contact Gregory Koob, U.S. Fish and Wildlife Service, Pacific Islands Fish and Wildlife Office, at 808-792-9400.

Individuals who are hearing impaired or speech impaired may call the Federal Relay Service at 800-877-8339 for TTY assistance.

SUPPLEMENTARY INFORMATION:

Why do we conduct 5-year reviews?

Under the Endangered Species Act of 1973, as amended (Act; 16 U.S.C. 1531 et seq.), we maintain lists of endangered and threatened wildlife and plant species (referred to as the List) in the Code of Federal Regulations (CFR) at 50 CFR 17.11 (for wildlife) and 17.12 (for plants). Section 4(c)(2) of the Act requires us to review each listed species' status at least once every 5 years. For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for these species.

Which species are under review?

This notice announces our active review of the 91 species listed in the table below.

Common name | Scientific name | Status | Known range of species occurrence | Final listing rule and publication date
Animals
Mammals:
Pacific sheath-tailed bat (South Pacific subspecies) | Emballonura semicaudata semicaudata | Endangered | American Samoa, Fiji, Samoa, Tonga, Vanuatu | 81 FR 65466, 9/22/2016.
Olympia pocket gopher | Thomomys mazama pugetensis | Threatened | Washington | 79 FR 19759, 4/9/2014.
Roy Prairie pocket gopher | Thomomys mazama glacialis | Threatened | Washington | 79 FR 19759, 4/9/2014.
Tenino pocket gopher | Thomomys mazama tumuli | Threatened | Washington | 79 FR 19759, 4/9/2014.
Yelm pocket gopher | Thomomys mazama yelmensis | Threatened | Washington | 79 FR 19759, 4/9/2014.
Birds:
Hawaiian duck | Anas wyvilliana | Endangered | Hawaii | 32 FR 4001, 3/11/1967.
Streaked horned lark | Eremophila alpestris strigata | Threatened | Oregon, Washington | 78 FR 61452, 10/3/2013.
Hawaiian coot | Fulica alai | Endangered | Hawaii | 35 FR 16047, 10/13/1970.
Friendly ground-dove (American Samoa distinct population segment) | Gallicolumba stairi | Endangered | American Samoa | 81 FR 65466, 9/22/2016.
Hawaiian common gallinule | Gallinula galeata sandvicensis | Endangered | Hawaii | 32 FR 4001, 3/11/1967.
Mao | Gymnomyza samoensis | Endangered | American Samoa, Samoa | 81 FR 65466, 9/22/2016.
Band-rumped storm-petrel | Oceanodroma castro | Endangered | Hawaii | 81 FR 67786, 9/30/2016.
Ou | Psittirostra psittacea | Endangered | Hawaii | 32 FR 4001, 3/11/1967.
Amphibians: Oregon spotted frog | Rana pretiosa | Threatened | Washington, Oregon, California; Canada (British Columbia) | 79 FR 51658, 8/29/2014.
Snails:
No common name | Eua zebrina | Endangered | American Samoa | 81 FR 65466, 9/22/2016.
No common name | Ostodes strigatus | Endangered | American Samoa | 81 FR 65466, 9/22/2016.
Insects:
Taylor's checkerspot butterfly | Euphydryas editha taylori | Endangered | Oregon, Washington | 78 FR 61452, 10/3/2013.
Yellow-faced bee | Hylaeus anthracinus | Endangered | Hawaii | 81 FR 67786, 9/30/2016.
Yellow-faced bee | Hylaeus assimulans | Endangered | Hawaii | 81 FR 67786, 9/30/2016.
Yellow-faced bee | Hylaeus facilis | Endangered | Hawaii | 81 FR 67786, 9/30/2016.
Yellow-faced bee | Hylaeus hilaris | Endangered | Hawaii | 81 FR 67786, 9/30/2016.
Yellow-faced bee | Hylaeus kuakea | Endangered | Hawaii | 81 FR 67786, 9/30/2016.
Yellow-faced bee | Hylaeus longiceps | Endangered | Hawaii | 81 FR 67786, 9/30/2016.
Yellow-faced bee | Hylaeus mana | Endangered | Hawaii | 81 FR 67786, 9/30/2016.
Mariana eight-spot butterfly | Hypolimnas octocula marianensis | Endangered | Hawaii | 80 FR 59423, 10/1/2015.
Orangeblack Hawaiian damselfly | Megalagrion xanthomelas | Endangered | Hawaii | 81 FR 67786, 9/30/2016.
PLANTS
Flowering Plants:
Mahoe | Alectryon macrococcus | Endangered | Hawaii | 57 FR 20772, 5/15/1992.
No common name | Bonamia menziesii | Endangered | Hawaii | 59 FR 56333, 11/10/1994.
Maui reedgrass | Calamagrostis expansa | Endangered | Hawaii | 81 FR 67786, 9/30/2016.
No common name | Calamagrostis hillebrandii | Endangered | Hawaii | 78 FR 32013, 5/28/2013.
Awikiwiki | Canavalia pubescens | Endangered | Hawaii | 78 FR 32013, 5/28/2013.
Kamanomano | Cenchrus agrimonioides | Endangered | Hawaii | 61 FR 53108, 10/10/1996.
Kauila | Colubrina oppositifolia | Endangered | Hawaii | 59 FR 10305, 3/4/1994.
No common name | Cyanea kauaulaensis | Endangered | Hawaii | 81 FR 67786, 9/30/2016.
No common name | Cyperus neokunthianus | Endangered | Hawaii | 81 FR 67786, 9/30/2016.
No common name | Cyperus pennatiformis | Endangered | Hawaii | 59 FR 56333, 11/10/1994.
Haiwale | Cyrtandra hematos | Endangered | Hawaii | 81 FR 67786, 9/30/2016.
Umtanum Desert buckwheat | Eriogonum codium | Threatened | Washington | 78 FR 76995, 12/20/2013.
Heau | Exocarpos menziesii | Endangered | Hawaii | 81 FR 67786, 9/30/2016.
No common name | Festuca hawaiiensis | Endangered | Hawaii | 81 FR 67786, 9/30/2016.
Mehamehame | Flueggea neowawraea | Endangered | Hawaii | 59 FR 56333, 11/10/1994.
Hawaiian gardenia | Gardenia brighamii | Endangered | Hawaii | 50 FR 33728, 8/21/1985.
Nanu | Gardenia remyi | Endangered | Hawaii | 81 FR 67786, 9/30/2016.
No common name | Hesperomannia arborescens | Endangered | Hawaii | 59 FR 14482, 3/28/1994.
Mao hau hele | Hibiscus brackenridgei | Endangered | Hawaii | 59 FR 56333, 11/10/1994.
Hilo ischaemum | Ischaemum byrone | Endangered | Hawaii | 59 FR 10305, 3/4/1994.
Wahine noho kula | Isodendrion pyrifolium | Endangered | Hawaii | 59 FR 10305, 3/4/1994.
Ohe | Joinvillea ascendens ssp. ascendens | Endangered | Hawaii | 81 FR 67786, 9/30/2016.
Kamapuaa | Kadua fluviatilis | Endangered | Hawaii | 81 FR 67786, 9/30/2016.
No common name | Kadua haupuensis | Endangered | Hawaii | 81 FR 67786, 9/30/2016.
No common name | Labordia lorenciana | Endangered | Hawaii | 81 FR 67786, 9/30/2016.
Uhi uhi | Mezoneuron kavaiense | Endangered | Hawaii | 51 FR 24672, 7/8/1986.
Kolea | Myrsine fosbergii | Endangered | Hawaii | 81 FR 67786, 9/30/2016.
Aiea | Nothocestrum latifolium | Endangered | Hawaii | 81 FR 67786, 9/30/2016.
Holei | Ochrosia haleakalae | Endangered | Hawaii | 81 FR 67786, 9/30/2016.
Holei | Ochrosia kilaueaensis | Endangered | Hawaii | 59 FR 10305, 3/4/1994.
Makou | Peucedanum sandwicense | Endangered | Hawaii | 59 FR 9304, 2/25/1994.
No common name | Phyllostegia brevidens | Endangered | Hawaii | 81 FR 67786, 9/30/2016.
No common name | Phyllostegia parviflora | Endangered | Hawaii | 61 FR 53108, 10/10/1996.
White Bluffs bladderpod | Physaria douglasi ssp. tuplashensis | Threatened | Washington | 78 FR 76995, 12/20/2013.
Kuahiwi laukahi | Plantago princeps | Endangered | Hawaii | 59 FR 56333, 11/10/1994.
No common name | Platanthera holochila | Endangered | Hawaii | 61 FR 53108, 10/10/1996.
Ihi | Portulaca villosa | Endangered | Hawaii | 81 FR 67786, 9/30/2016.
Baker's loulu | Pritchardia bakeri | Endangered | Hawaii | 81 FR 67786, 9/30/2016.
Enaena | Pseudognaphalium sandwicensium var. molokaiense | Endangered | Hawaii | 81 FR 67786, 9/30/2016.
Makou | Ranunculus hawaiensis | Endangered | Hawaii | 81 FR 67786, 9/30/2016.
Makou | Ranunculus mauiensis | Endangered | Hawaii | 81 FR 67786, 9/30/2016.
No common name | Sanicula sandwicensis | Endangered | Hawaii | 81 FR 67786, 9/30/2016.
Iliahi | Santalum involutum | Endangered | Hawaii | 81 FR 67786, 9/30/2016.
Dwarf naupaka | Scaevola coriacea | Endangered | Hawaii | 51 FR 17971, 5/16/1986.
Awiwi | Schenkia sebaeoides | Endangered | Hawaii | 56 FR 55770, 10/29/1991.
No common name | Schiedea diffusa ssp. diffusa | Endangered | Hawaii | 81 FR 67786, 9/30/2016.
Maolioli | Schiedea pubescens | Endangered | Hawaii | 81 FR 67786, 9/30/2016.
Ohai | Sesbania tomentosa | Endangered | Hawaii | 59 FR 56333, 11/10/1994.
Anunu | Sicyos lanceoloideus | Endangered | Hawaii | 81 FR 67786, 9/30/2016.
Anunu | Sicyos macrophyllus | Endangered | Hawaii | 81 FR 67786, 9/30/2016.
No common name | Silene lanceolata | Endangered | Hawaii | 57 FR 46325, 10/8/1992.
Popolo | Solanum nelsonii | Endangered | Hawaii | 81 FR 67786, 9/30/2016.
No common name | Spermolepis hawaiiensis | Endangered | Hawaii | 59 FR 56333, 11/10/1994.
Ae | Zanthoxylum hawaiiense | Endangered | Hawaii | 59 FR 10305, 3/4/1994.
Ferns and Allies
Pendant kihi fern | Adenophorus periens | Endangered | Hawaii | 59 FR 56333, 11/10/1994.
Asplenium-leaved diellia | Asplenium dielerectum | Endangered | Hawaii | 59 FR 56333, 11/10/1994.
No common name | Asplenium diellaciniatum | Endangered | Hawaii | 81 FR 67786, 9/30/2016.
Pauoa | Ctenitis squamigera | Endangered | Hawaii | 59 FR 49025, 9/26/1994.
Kupukupu makalii | Cyclosorus boydiae | Endangered | Hawaii | 81 FR 67786, 9/30/2016.
No common name | Deparia kaalaana | Endangered | Hawaii | 81 FR 67786, 9/30/2016.
Hohiu | Dryopteris glabra var. pusilla | Endangered | Hawaii | 81 FR 67786, 9/30/2016.
No common name | Huperzia stemmermanniae | Endangered | Hawaii | 81 FR 67786, 9/30/2016.
Olua | Hypolepis hawaiiensis var. mauiensis | Endangered | Hawaii | 81 FR 67786, 9/30/2016.
No common name | Microlepia strigosa var. mauiensis | Endangered | Hawaii | 81 FR 67786, 9/30/2016.
No common name | Pteris lidgatei | Endangered | Hawaii | 59 FR 49025, 9/26/1994.

Request for New Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

If you wish to provide information for any species listed in the table, please submit your comments and materials to the appropriate contact in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices to which the comments are submitted.

Completed and Active Reviews

A list of all completed and currently active 5-year reviews addressing species for which the Pacific Region of the Service has lead responsibility is available at http://www.fws.gov/pacific/ecoservices/endangered/recovery/5year.html.

Authority

This document is published under the authority of the Endangered Species Act of 1973, as amended (16 U.S.C. 1531 et seq.).

Dated: March 8, 2019.
Mary M. Abrams,
Acting Regional Director, Pacific Region, U.S. Fish and Wildlife Service.

[FR Doc. 2019-12244 Filed 6-10-19; 8:45 am]

BILLING CODE 4333-15-P